DEPARTMENT OF AGRICULTURE

Office of the Secretary

Collaborative Forest Landscape Restoration Advisory Committee

AGENCY: Office of the Secretary, USDA.

ACTION: Notice; extension of application acceptance period.

SUMMARY: On March 5, 2010, the Department of Agriculture published in the Federal Register (75 FR 10204) a notice of intent to establish the Collaborative Forest Landscape Restoration Advisory Committee and call for nominations for committee members. The Department of Agriculture is extending the date that applications for nominations will be accepted from March 22, 2010, to March 29, 2010.

DATES: All nominations must be received in writing by March 29, 2010. Nominations must contain a completed application packet that includes the nominee's name, resume, and completed form AD-755 (Advisory Committee Membership Background Information). The package must be sent to the address below.

ADDRESSES: Send nominations and applications to William Timko, USDA Forest Service; Forest Management, Room 3NW; 201 14th Street, SW., Washington, DC 20024 by express mail or overnight courier service. If sent via the U.S. Postal Service, send to the following address: U.S. Department of Agriculture, Forest Service, Forest Management, National Forest System, Mail Stop 1103, 1400 Independence Avenue, SW.,Washington, DC 20250-1123.

FOR FURTHER INFORMATION CONTACT: Thomas Peterson, U.S. Department of Agriculture, National Forest System, Forest Management; telephone 202-205-0893, fax 202-205-1045, e-mail: tpeterson01@fs.fed.us, or contact William Timko, U.S. Department of Agriculture; National Forest System, Forest Management, telephone 202-205-0893, fax 202-205-1045, e-mail: btimko@fs.fed.us. Individuals who use telecommunication devices for the deaf (TDD) may call the Federal Information Relay Service (FIRS) at 1-800-877-8339 between 8 a.m. and 8 p.m., Eastern Standard Time, Monday through Friday.

Dated: March 21, 2010.
Pearlie S. Reed,
Assistant Secretary of Administration.

[FR Doc. 2010-6777 Filed 3-25-10; 8:45 am]

BILLING CODE 3410-11-P